DEPARTMENT OF THE INTERIOR

Bureau of Ocean Energy Management

[OMB Control Number 1010-0191; Docket ID: BOEM-2023-0004]

Agency Information Collection Activities; Negotiated Noncompetitive Agreement for the Use of Sand, Gravel, and/or Shell Resources on the Outer Continental Shelf

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0191.

DATES: Comments must be received by the OMB desk officer no later than November 24, 2023.

ADDRESSES: Submit your written comments on this ICR to the OMB desk officer for the Department of the Interior at www.reginfo.gov/public/do/PRAMain. From the www.reginfo.gov/public/do/PRAMain landing page, find this information collection by selecting “Currently under Review—Open for Public Comments” or by using the search function. Please provide a copy of your comments by parcel delivery service or U.S. mail to the BOEM Information Collection Clearance Officer, Anna Atkinson, Bureau of Ocean Energy Management, 45600 Woodland Road, Sterling, Virginia 20166; or by email to anna.atkinson@boem.gov. Please reference OMB control number 1010-0191 in the subject line of your comments. You may also comment by searching the docket number “BOEM-2023-0004” at www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: “30 CFR part 583, Negotiated Noncompetitive Agreements for the Use of Outer Continental Shelf Sand, Gravel, and/or Shell Resources.”

Abstract: Part 583 in title 30 of the Code of Federal Regulations addresses the use of Outer Continental Shelf (OCS) sand, gravel, and shell resources for shore protection, beach restoration, or coastal wetlands restoration projects undertaken by Federal, State, or local government agencies, or for use in construction projects authorized by or funded in whole or in part by the Federal Government.

The OCS Lands Act, 43 U.S.C. 1331 et seq., authorizes the Secretary of the Interior to prescribe rules and regulations to administer leasing of mineral resources on the OCS. Section 1337(k)(2) of title 43 authorizes the Secretary to “. . . negotiate with any person an agreement for the use of Outer Continental Shelf sand, gravel and shell resources—(i) for use in a program of, or project for, shore protection, beach restoration, or coastal wetlands restoration undertaken by a Federal, State, or local government agency; or (ii) for use in a construction project . . . that is funded in whole or in part by or authorized by the Federal Government.” The Secretary delegated this authority to BOEM.

This ICR allows BOEM to collect information from an applicant requesting a non-competitive, negotiated agreement. This information is used to determine if the applicant is qualified to enter into such an agreement and to determine if the requested action is warranted.

OMB Control Number: 1010-0191.

Form Number: None.

Type of Review: Extension of a currently approved collection.

Respondents/Affected Public: Potential respondents include Federal, State, or local governments.

Total Estimated Number of Annual Responses: 45 responses.

Total Estimated Number of Annual Burden Hours: 299 hours (Hours are same as currently approved).

Respondent's Obligation: Required to retain or obtain a benefit.

Frequency of Collection: On occasion.

Total Estimated Annual Non-hour Burden Cost: BOEM has identified no non-hour paperwork cost burdens for this collection.

A Federal Register notice with a 60-day public comment period on the proposed ICR was published on May 26, 2023 (88 FR 34182). BOEM did not receive any comments.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record and will be available for public review on www.reginfo.gov. You should be aware that your entire comment—including your address, phone number, email address, or other personally identifiable information included in your comment—may be made publicly available at any time. In order for BOEM to consider withholding from disclosure your personal identifying information, you must identify, in a cover letter, any information contained in your comment that, if released, would constitute a clearly unwarranted invasion of your personal privacy. You must also briefly describe any possible harmful consequences of the disclosure of information, such as embarrassment, injury, or other harm. Note that BOEM will make available for public inspection all comments in their entirety (except for proprietary information submitted by organizations and businesses, or by individuals identifying themselves as representatives of organizations or businesses).

Even if BOEM withholds your information in the context of this ICR, your comment is subject to the Freedom of Information Act (FOIA) (5 U.S.C. 552). If your submission is requested under FOIA, your information will only be withheld if a determination is made that one of the FOIA exemptions to disclosure applies. Such a determination will be made in accordance with the Department's FOIA implementing regulations (43 CFR part 2) and applicable law.

BOEM protects proprietary information in accordance with FOIA and DOI's implementing regulations.

An agency may not conduct or sponsor, and a person is not required to respond to, a collection of information unless it displays a currently valid OMB control number.

The authority for this action is the Paperwork Reduction Act of 1995 (44 U.S.C. 3501 et seq.).

Karen Thundiyil,
Chief, Office of Regulations, Bureau of Ocean Energy Management.

[FR Doc. 2023-23414 Filed 10-23-23; 8:45 am]

BILLING CODE 4340-98-P